Title 3—

The President

Proclamation 8210 of December 6, 2007

Human Rights Day, Bill of Rights Day, and Human Rights Week, 2007

By the President of the United States of America

A Proclamation

Americans value deeply our ability to speak, assemble, and worship freely. As a Nation, we can help freedom-loving people everywhere build a world in which these rights are honored and respected. During Human Rights Day, Bill of Rights Day, and Human Rights Week, we celebrate the freedoms guaranteed to all Americans and protected in our Constitution's Bill of Rights.

Many of these fundamental freedoms are still denied to people in countries around the world. The United States continues to stand with those who work to build democracy and secure the blessings of liberty. Individuals are struggling to create free societies in Cuba, Belarus, and Syria. And the day will come when they, and the citizens of other lands such as North Korea, Iran, Zimbabwe, and Sudan, will no longer be restricted from practicing their faith, voicing their opinions, and enjoying the many blessings of freedom.

Freedom and dignity are God's gifts, and during Human Rights Day, Bill of Rights Day, and Human Rights Week, we look forward with confidence to the eventual triumph of human rights for all mankind.

NOW, THEREFORE, I , GEORGE W. BUSH, President of the United States of America, by virtue of the authority vested in me by the Constitution and laws of the United States, do hereby proclaim December 10, 2007, as Human Rights Day; December 15, 2007, as Bill of Rights Day; and the week beginning December 10, 2007, as Human Rights Week. I call upon the people of the United States to mark these observances with appropriate ceremonies and activities.

IN WITNESS WHEREOF, I have hereunto set my hand this sixth day of December, in the year of our Lord two thousand seven, and of the Independence of the United States of America the two hundred and thirty-second.

[FR Doc. 07-6050

Filed 12-11-07; 8:53 am]

Billing code 3195-01-P